DEPARTMENT OF COMMERCE

National Oceanic and Atmospheric Administration

50 CFR Part 648

[Docket No. 041110317-4364-02; I.D. 061505C]

Fisheries of the Northeastern United States; Summer Flounder Fishery; Quota Transfer

AGENCY: National Marine Fisheries Service (NMFS), National Oceanic and Atmospheric Administration (NOAA), Commerce.

ACTION: Temporary rule; inseason quota transfer.

SUMMARY: NMFS announces that it has approved the request of the State of Rhode Island to transfer 50,186 lb (22,764 kg) of commercial summer flounder quota to the States of Maine, Connecticut, New York, Delaware, and Maryland, and the Commonwealth of Massachusetts, in accordance with the Atlantic States Marine Fisheries Commission (ASMFC) Addendum XV to the Summer Flounder, Scup, and Black Sea Bass Fishery Management Plan (FMP). In addition, NMFS is revising commercial summer flounder quota numbers for the States of North Carolina and Maryland from those published in a previous Addendum XV transfer. By this action, NMFS adjusts the quotas and announces the revised commercial quota for each state involved.

DATES: Effective June 16, 2005 through December 31, 2005, unless NMFS publishes a superseding document in the Federal Register.

FOR FURTHER INFORMATION CONTACT: Mike Ruccio, Fishery Management Specialist, (978) 281-9104, FAX (978) 281-9135.

SUPPLEMENTARY INFORMATION: Regulations governing the summer flounder fishery are found at 50 CFR part 648. The regulations require annual specification of a commercial quota that is apportioned among the coastal states from North Carolina through Maine. The process to set the annual commercial quota and the percent allocated to each state are described in § 648.100.

The ASMFC adopted Addendum XV to the FMP in November 2004. The Addendum is being implemented under the adaptive management and framework procedures that are part of the FMP. Addendum XV establishes a program, for 2005 and 2006, that allocates the increase in commercial summer flounder quota (from the 2004 amount) differently than the existing allocation scheme, in order to reduce the amount of fish that must be discarded as bycatch in the commercial fishery in states with relatively low summer flounder quotas. The transfer of quota from donor states will allow recipient states to marginally increase trip limits, thereby decreasing the amount of summer flounder discarded at sea.

The final rule implementing Amendment 5 to the FMP that was published on December 17, 1993 (58 FR 65936), provided a mechanism for summer flounder quota to be transferred from one state to another. Two or more states, under mutual agreement and with the approval of the Administrator, Northeast Region, NMFS (Regional Administrator), can transfer or combine summer flounder commercial quota under § 648.100(d). The Regional Administrator is required to consider the criteria set forth in § 648.100(d)(3) in the evaluation of requests for quota transfers or combinations. The Regional Administrator has reviewed those criteria and approved the quota transfer requests submitted by the State of Rhode Island.

Consistent with Addendum XV, Rhode Island, a designated “donor state,” has voluntarily employed the quota transfer provisions of the FMP to transfer a total of 50,186 lb (22,764 kg) to be allocated as follows: Maine 937 lb (425 kg); Connecticut 13,095 lb (5,940 kg); New York 9,763 lb (4,428 kg); Delaware 2,887 lb (1,310); Maryland 13,230 lb (6,001 kg); and Massachusetts 10,274 lb (4,660 kg) (see Table 1).

In addition, this action corrects a previous quota transfer involving North Carolina and Maryland published on June 7, 2005 (70 FR 33042). This previous quota transfer notice effected an Addendum XV transfer from North Carolina to Maine, Massachusetts, Connecticut, New York, and Maryland. In agreeing to this previous transfer, Maryland accepted only half of the quota offered by North Carolina, but the transfer published on June 7, 2005, inadvertently transferred to Maryland the full amount offered by North Carolina (23,153 lb (10,502 kg)). Therefore, this action deducts half of this amount (11,577 lb (5,251 kg)) from Maryland and restores the same amount to North Carolina. The corrected quotas involved in that transfer are listed in Table 1.

Table 1. Summer Flounder Commercial Quota Transfers
State | Amount Transferred: lb | Amount Transferred: kg | 2005 Quota¹: lb | 2005 Quota¹: kg | 2005 Revised Quota: lb | 2005 Revised Quota: kg
Rhode Island | -50,186 | -22,764 | 2,818,232 | 1,278,350 | 2,768,046 | 1,255,586
Maine | 937 | 425 | 11,459 | 5,198 | 12,396 | 5,623
Massachusetts | 10,274 | 4,660 | 1,209,499 | 548,629 | 1,219,773 | 553,289
Connecticut | 13,095 | 5,940 | 446,313 | 202,448 | 459,408 | 208,387
New York | 9,763 | 4,428 | 1,404,519 | 637,090 | 1,414,282 | 641,518
Delaware² | 2,887 | 1,310 | -47,415 | -21,507 | -44,528 | -20,198
Maryland³ | 13,230 | 6,001 | 388,534 | 176,239 | 390,187 | 176,989
North Carolina | 0 | 0 | 4,597,745 | 2,085,537 | 4,609,322 | 2,090,788
¹ Reflects quotas as published on June 7, 2005 (70 FR 33042), inclusive of previous Addendum XV and “safe harbor” transfers.
² Landings of summer flounder in Delaware by vessels holding commercial Federal fisheries permits are prohibited for the 2005 calendar year.
³ Maryland net change between transfer (13,230 lb (6,001 kg)) and revision (-11,577 lb (5,251 kg)) is 1,673 lb (759 kg).

Classification

This action is taken under 50 CFR part 648 and is exempt from review under Executive Order 12866.

Authority: 16 U.S.C. 1801 et seq.

Dated: June 15, 2005.
Anne M. Lange,
Acting Director, Office of Sustainable Fisheries, National Marine Fisheries Service.

[FR Doc. 05-12204 Filed 6-16-05; 12:58 pm]

BILLING CODE 3510-22-S